DEPARTMENT OF ENERGY

Federal Energy Regulatory Commission

[Docket No. CP19-12-000]

Notice of Request Under Blanket Authorization Florida Gas Transmission Company, LLC

Take notice that on November 1, 2018, Florida Gas Transmission Company, LLC (FGT), 1300 Main St., Houston, Texas 77002, filed in Docket No. CP19-12-000 a prior notice request pursuant to sections 157.205, 157.208, and 157.210 of the Commission's regulations under the Natural Gas Act and FGT's blanket certificate issued in Docket No. CP82-553-000 for authorization of the East Louisiana Project. FGT proposes to construct/modify, own, and operate, certain natural gas mainline facilities and appurtenances at an existing compressor station site in Perry County, Mississippi. In addition, FGT proposes to install a new regulator, valves, Electronic Flow Meter and Supervisory Control and Data Acquisition, and appurtenances, in FGT's permanent right of-way easement at an existing mainline valve site in Washington Parish, Louisiana. This project will allow FGT to provide additional capacity of up to 75 million cubic feet per day of available firm transportation service to Entergy Louisiana, LLC in Washington Parish, Louisiana, all as more fully set forth in the request which is on file with the Commission and open to public inspection.

The filing is available for review at the Commission in the Public Reference Room or may be viewed on the Commission's website web at http://www.ferc.gov using the eLibrary link. Enter the docket number excluding the last three digits in the docket number field to access the document. For assistance, contact FERC at FERCOnlineSupport@ferc.gov or call toll-free, (886) 208-3676 or TYY, (202) 502-8659.

Any questions regarding this application should be directed to Blair Lichtenwalter, Senior Director of Certificates, Florida Gas Transmission Company, LLC, 1300 Main St., Houston, Texas 77002, or via eMail to Blair.Lichtenwalter@energytransfer.com, or call (713) 989-2605.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

The Commission strongly encourages electronic filings of comments, protests and interventions in lieu of paper using the eFiling link at http://www.ferc.gov. Persons unable to file electronically should submit an original and 3 copies of the protest or intervention to the Federal Energy regulatory Commission, 888 First Street NE, Washington, DC 20426.

Dated: November 8, 2018.
Kimberly D. Bose,
Secretary.

[FR Doc. 2018-24887 Filed 11-14-18; 8:45 am]

BILLING CODE 6717-01-P